DEPARTMENT OF ENERGY

Federal Energy Regulatory Commission

Combined Notice of Filings #2

Take notice that the Commission received the following electric rate filings:

Docket Numbers: ER16-533-001.

Applicants: Midcontinent Independent System Operator, Inc.

Description: Compliance filing: 2016-05-17 CTS Compliance Filing to be effective 3/1/2017.

Filed Date: 5/17/16.

Accession Number: 20160517-5157.

Comments Due: 5 p.m. ET 6/7/16.

Docket Numbers: ER16-534-001.

Applicants: Midcontinent Independent System Operator, Inc.

Description: Compliance filing: 2016-05-17_CTS Compliance Filing to be effective 3/1/2017.

Filed Date: 5/17/16.

Accession Number: 20160517-5159.

Comments Due: 5 p.m. ET 6/7/16.

Docket Numbers: ER16-1410-001.

Applicants: Torofino Trading LLC.

Description: Tariff Amendment: Supplement to the Application for Market-Based Rate Authority to be effective 5/31/2016.

Filed Date: 5/17/16.

Accession Number: 20160517-5131.

Comments Due: 5 p.m. ET 6/7/16.

Docket Numbers: ER16-1440-001.

Applicants: Roswell Solar, LLC.

Description: Tariff Amendment: Roswell Solar, LLC's Amendment to Application for Market-Based Rates to be effective 6/15/2016.

Filed Date: 5/17/16.

Accession Number: 20160517-5099.

Comments Due: 5 p.m. ET 6/7/16.

Docket Numbers: ER16-1719-000.

Applicants: San Diego Gas & Electric Company.

Description: § 205(d) Rate Filing: SDGE Annual Filing of Revised Costs and Accruals for PBOPs to be effective 1/1/2017.

Filed Date: 5/17/16.

Accession Number: 20160517-5096.

Comments Due: 5 p.m. ET 6/7/16.

Docket Numbers: ER16-1720-000.

Applicants: Invenergy Energy Management LLC.

Description: Baseline eTariff Filing: Application for Market-Based Rate Authorization to be effective 7/1/2016.

Filed Date: 5/17/16.

Accession Number: 20160517-5105.

Comments Due: 5 p.m. ET 6/7/16.

Docket Numbers: ER16-1720-001.

Applicants: Invenergy Energy Management LLC.

Description: Tariff Amendment: Supplement to May 17, 2016 Market-Based Rate Application to be effective 7/1/2016.

Filed Date: 5/17/16.

Accession Number: 20160517-5139.

Comments Due: 5 p.m. ET 6/7/16.

Docket Numbers: ER16-1721-000.

Applicants: Public Service Company of New Mexico.

Description: Initial rate filing: Transmission Construction and Interconnection Agreement with Tri-State to be effective 4/28/2016.

Filed Date: 5/17/16.

Accession Number: 20160517-5116.

Comments Due: 5 p.m. ET 6/7/16.

Docket Numbers: ER16-1722-000.

Applicants: ISO New England Inc., Fitchburg Gas and Electric Light Company.

Description: § 205(d) Rate Filing: Fitchburg Gas and Electric Light Company Request for Updated Depreciation Rates to be effective 5/1/2016.

Filed Date: 5/17/16.

Accession Number: 20160517-5130.

Comments Due: 5 p.m. ET 6/7/16.

Docket Numbers: ER16-1723-000.

Applicants: Southwestern Electric Power Company.

Description: § 205(d) Rate Filing: AECC East Fayetteville Delivery Point Agreement to be effective 4/21/2016.

Filed Date: 5/17/16.

Accession Number: 20160517-5140.

Comments Due: 5 p.m. ET 6/7/16.

Docket Numbers: ER16-1724-000.

Applicants: Paulding Wind Farm III LLC.

Description: Baseline eTariff Filing: MBR Application to be effective 7/17/2016.

Filed Date: 5/17/16.

Accession Number: 20160517-5158.

Comments Due: 5 p.m. ET 6/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2016.
Nathaniel J. Davis, Sr.,
Deputy Secretary.

[FR Doc. 2016-12046 Filed 5-20-16; 8:45 am]

BILLING CODE 6717-01-P